DEPARTMENT OF ENERGY

Federal Energy Regulatory Commission

Combined Notice of Filings #1

May 12, 2010.

Take notice that the Commission received the following electric corporate filings:

Docket Numbers: EC10-68-000.

Applicants: Allegheny Energy Inc., FirstEnergy Corp.

Description: Application of FirstEnergy Corp., et al. under Section 203 of Federal Power Act.

Filed Date: 05/11/2010.

Accession Number: 20100511-5100.

Comment Date: 5 p.m. Eastern Time on Monday, July 12, 2010.

Take notice that the Commission received the following electric rate filings:

Docket Numbers: ER03-908-003.

Applicants: Fulcrum Power Marketing LLC.

Description: Supplement to Filing of Fulcrum Power Marketing LLC.

Filed Date: 05/11/2010.

Accession Number: 20100511-5118.

Comment Date: 5 p.m. Eastern Time on Tuesday, June 01, 2010.

Docket Numbers: ER05-1232-024; ER07-1358-014.

Applicants: J.P. Morgan Ventures Energy Corporation, BE Louisiana LLC.

Description: J.P. Morgan Ventures Energy Corporation and BE Louisiana LLC's Supplement to Updated Market Power Analysis and Order No. 697 Compliance Filing.

Filed Date: 05/05/2010.

Accession Number: 20100505-5111.

Comment Date: 5 p.m. Eastern Time on Wednesday, May 26, 2010.

Docket Numbers: ER10-1228-000.

Applicants: Allegheny Energy Supply Company, LLC.

Description: Allegheny Energy Supply Company, LLC submits request for authorization to make wholesale power sales to its affiliate etc.

Filed Date: 05/11/2010.

Accession Number: 20100512-0202.

Comment Date: 5 p.m. Eastern Time on Tuesday, June 01, 2010.

Docket Numbers: ER10-1229-000.

Applicants: California Independent System Operator Corporation.

Description: California Independent System Operator Corporation submits amendments to FERC Electric, Fourth Replacement Volume Nos. 1 & 2.

Filed Date: 05/07/2010.

Accession Number: 20100512-0210.

Comment Date: 5 p.m. Eastern Time on Friday, May 28, 2010.

Take notice that the Commission received the following electric securities filings:

Docket Numbers: ES10-35-000.

Applicants: American Transmission Company LLC, ATC Management Inc.

Description: Supplemental Information and Request for Shortened Comment Period of American Transmission Company LLC and ATC Management Inc.

Filed Date: 05/05/2010.

Accession Number: 20100505-5023.

Comment Date: 5 p.m. Eastern Time on Monday, May 17, 2010.

Take notice that the Commission received the following electric reliability filings:

Docket Numbers: RR10-9-001.

Applicants: North American Electric Reliability Corporation.

Description: Supplemental Filing to Petition of North American Electric Reliability Corporation for Approval of Amended 2010 Business Plan and Budget of WECC and Amendment to Exhibit E etc.

Filed Date: 05/11/2010.

Accession Number: 20100511-5117.

Comment Date: 5 p.m. Eastern Time on Wednesday, May 26, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-12392 Filed 5-21-10; 8:45 am]

BILLING CODE 6717-01-P